ENVIRONMENTAL PROTECTION AGENCY

[ER-FRL-6621-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 260-5076. An explanation of the ratings assigned to draft environmental impact statements (EISs) was published in FR dated May 18, 2001 (66 FR 27164).

DRAFT EISs

ERP No. D-COE-K36135-CA Rating EC2, White Slough Flood Control Study, To Improve Tidal Circulation, Continuing Authorities Program Section 205, Vallejo Sanitation and Flood Control District, City of Vallejo, Solano County, CA.

Summary: EPA expressed concerns, and requested additional information on the project's purpose and need, alternatives considered, and impacts to habitat, water quality, biological resources, air quality, community growth and traffic.

ERP No. D-DOE-K03024-AZ Rating EC2, Big Sandy Energy Project, Construction and Operation a 720-megawatt (MW) Natural Gas-Fired Combined-Cycle Power Plants, Right-of-Way Grant, Mohave County, AZ.

Summary: EPA expressed concerns regarding water quality, wetlands, air quality, hazardous material and threatened and endangered species. EPA urged avoidance of impacts versus relying on mitigation measures to reduce impacts to a level of insignificance, a commitment to directional drilling for the pipeline crossing of the Big Sandy River, and an evaluation of the need for additional generation capacity.

ERP No. D-FRC-L05221-WA Rating EC2, Cowlitz River Hydroelectric Project (No. 2016-044), Relicensing of the Existing 462-megawatt, Cowlitz River, City of Tacoma, WA.

Summary: EPA identified concerns related to potential effects to water quality, fisheries and flood control and the narrow range of alternatives evaluated in the EIS. EPA recommended additional information related to those concerns as well as the duration of the proposed license and the purpose and need for the project.

ERP No. D-NPS-G03019-TX Rating EC2, Lake Meredith National Recreation Area and Alibates Flint Quarries National Monument Oil and Gas Management Plan, Hutchinson, Moore and Potter Counties, TX.

Summary: EPA expressed environmental concerns and requested that the FEIS further address socioeconomics, environmental justice, and visitor use.

ERP No. DS-BLM-J67019-MT Rating LO, Zortman and Landusky Mines Reclamation Plan, Modifications and Mine Life Extensions, Updated Information To Analyze Additional Reclamation Alternatives, Approval of Mine Operation, Mine Reclamation and COE Section 404 Permit, Little Rocky Mountains, Phillip County, MT.

Summary: EPA has no objections to the preferred alternative which will take $22 million to implement. However, EPA would have environmental objections to the other less expensive alternatives should this funding not be available given that they do not adequately control the generation of acid mine drainage.

Dated: August 21, 2001.
Joseph C. Montgomery,
Director, NEPA Compliance Division, Office of Federal Activities.

[FR Doc. 01-21450 Filed 8-23-01; 8:45 am]

BILLING CODE 6560-50-P